SECURITIES AND EXCHANGE COMMISSION

[SEC File No. 270-514, OMB Control No. 3235-0572]

Submission for OMB Review; Comment Request; Reinstatement Without Change: Reports of Evidence of Material Violations; Correction

Upon Written Request, Copies Available From: Securities and Exchange Commission, Office of FOIA Services, 100 F Street NE, Washington, DC 20549-2736

ACTION: Notice; correction.

SUMMARY: The Securities and Exchange Commission published a notice document in the Federal Register on February 27, 2025, concerning a Submission for OMB Review; Comment Request; Reinstatement without Change: Reports of Evidence of Material Violations. The document contained a typographical error.

FOR FURTHER INFORMATION CONTACT: Naomi P. Lewis, Securities and Exchange Commission, 100 F Street NE, Washington, DC 20549, (202) 551-5400.

SUPPLEMENTARY INFORMATION:

Correction

In the Federal Register of February 27, 2025, in FR Doc. 2025-03135, at 90 FR 10841, in the first column, in the third bold heading, on the 46th line, the reference to “Proposed Collection” should be replaced with “Submission for OMB Review”.

Dated: February 27, 2025.
Sherry R. Haywood,
Assistant Secretary.

[FR Doc. 2025-03503 Filed 3-4-25; 8:45 am]

BILLING CODE 8011-01-P